DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking approval of the following information collection activities. Before submitting these information collection requirements for clearance by the Office of Management and Budget (OMB), FRA is soliciting public comment on specific aspects of the activities identified below.

DATES: Comments must be received no later than January 18, 2008.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Gina Christodoulou, Office of Support Systems Staff, RAD-43, Federal Railroad Administration, 1120 Vermont Ave., NW., Mail Stop 35, Washington, DC. 20590. Commenters requesting FRA to acknowledge receipt of their respective comments must include a self-addressed stamped postcard stating, “Comments on OMB control number 2130-0557, OMB control number 2130-0564, or OMB control number 2130-0565.” Alternatively, comments may be transmitted via facsimile to (202) 493-6230 or (202) 493-6170, or via E-mail to Mr. Brogan at robert.brogan@dot.gov, or to Ms. Christodoulou at gina.christodoulou@dot.gov. Please refer to the assigned OMB control number or collection title in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Ms. Gina Christodoulou, Office of Support Systems Staff, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law No. 104-13, 2, 109 Stat. 163 (1995) (codified as revised at 44 U.S.C. 3501-3520), and its implementing regulations, 5 CFR part 1320, require Federal agencies to provide 60-days notice to the public for comment on information collection activities before seeking approval by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of current information collection activities that FRA will submit for clearance by OMB as required under the PRA:

Title: Safety Integration Plans.

OMB Control Number: 2130-0557.

Abstract: The Federal Railroad Administration (FRA) and the Surface Transportation Board (STB), working in conjunction with each other, have issued joint final rules establishing procedures for the development and implementation of safety integration plans (“SIPs” or “plans”) by a Class I railroad proposing to engage in certain specified merger, consolidation, or acquisition of control transactions with another Class I railroad, or a Class II railroad with which it proposes to amalgamate operations. The scope of the transactions covered under the two rules is the same. FRA uses the information collected, notably the required SIPs, to maintain and promote a safe rail environment by ensuring that affected railroads (Class Is and some Class IIs) address critical safety issues unique to the amalgamation of large, complex railroad operations.

Form Number(s): N/A.

Affected Public: Railroads.

Respondent Universe: Class I Railroads.

Frequency of Submission: On occasion.

CFR section | Respondent universe | Total annual responses | Average time per response | Total annual burden hours | Total annual burden cost
244.13—Safety Integration Plans:
Amalgamation of Operations—SIP Development & Quarterly Meetings | 8 railroads | 1 plan | 340 hours | 340 hours | $24,016
244.17—Procedures | 8 railroads | 25 reports | 40 hours/2 hours | 88 hours | 5,632
—Responses to FRA Inquiries Re: SIP data | 8 railroads | 6 responses | 8 hours | 48 hours | 3,072
—Coordination in Implementing Approved SIP | 8 railroads | 25 phone calls | 10 minutes | 4 hours | 256
—Request for Confidential Treatment | 8 railroads | 1 request | 16 hours | 16 hours | 2,512
244.19—Disposition:
—Comments on Proposed SIP Amendments | 8 railroads | 2 reports | 16 hours | 32 hours | 2,048

Total Responses: 60.

Estimated Total Annual Burden: 528 hours.

Status: Extension of a Currently Approved Collection.

Title: Locomotive Crashworthiness.

OMB Control Number: 2130-0564.

Abstract: In a final rule published June 28, 2006, the Federal Railroad Administration (FRA) issued comprehensive standards for locomotive crashworthiness. These crashworthiness standards are intended to help protect locomotive cab occupants in the event of a locomotive collision. The collection of information is used by FRA to ensure that locomotive manufacturers and railroads meet minimum performance standards and design load requirements for newly manufactured and re-manufactured locomotives in order to help protect locomotive cab occupants in the event that one of these covered locomotives collides with another locomotive, the rear of another train, a piece of on-track equipment, a shifted load on a freight car on an adjacent parallel track, or a highway vehicle at a rail-highway grade crossing.

Form Number(s): N/A.

Affected Public: Railroads.

Respondent Universe: 685 Railroads/4 Locomotive Manufacturers.

Frequency of Submission: On occasion.

CFR section | Respondent universe | Total annual responses | Average time per response | Total annual burden hours | Total annual burden cost
229.207—Petition for FRA Approval of New Locomotive Crashworthiness Standards | 685 Railroads + 4 Loco. Manufacturers | 2 petitions | 1,050 hours | 2,100 hours | $4,000
—Subsequent Years—Petitions | 685 Railroads + 4 Loco. Manufacturers | 1 petition | 1,050 hours | 1,050 hours | 2,000
—Petition for FRA Approval of Substantive Change to FRA-Approved Crashworthiness Design Standard | 685 Railroads + 4 Loco. Manufacturers | 2 petitions | 1,050 hours | 2,100 hours | 254,000
—Petition for FRA Approval of Non-Substantive Change to FRA-Approved Crashworthiness Design Standard | 685 Railroads + 4 Loco. Manufacturers | 4 petitions | 400 hours | 1,600 hours | 183,000
229.109—Petition for FRA Approval of Alternative Locomotive Crashworthiness Design Standard | 685 Railroads + 4 Loco. Manufacturers | 1 petition | 2,550 hours | 2,550 hours | 2,000
229.211—Comments on FRA Notice of Petitions Received by Agency | 4 Loco. Manuf./RR Association/Labor Organizations/Public | 10 comments | 16 hours | 160 hours | 6,400
—Agency Request for Additional Information Concerning Petitions: Hearings | 685 Railroads/4 Loco. Manuf./Other Interested Parties/Public | 4 hearings (16 comments) | 24 hours | 96 hours | 3,840
229.213—Locomotive Manufacturing Information: Retention of Required Info | 685 Railroads | 700 records or stickers or badge plates | 6 minutes | 70 hours | 2,800
229.215—Retention of Records—Original Designs | 4 Loco. Manuf. | 24 loco. rcds. | 8 hours | 192 hours | 7,680
—Retention of Records—Repairs and Modifications | 685 Railroads | 6 records | 4 hours | 24 hours | 960
—Inspection of Records | 6 Loco. Manuf./Rebuilders | 10 records | 2 minutes | .33 hour | 13

Total Responses: 764.

Estimated Total Annual Burden: 9,942 hours.

Status: Extension of a Currently Approved Collection.

Title: Safety Appliance Concern Recommendation Report; Guidance Checklist Forms.

OMB Control Number: 2130-0565.

Abstract: In an ongoing effort to conduct more thorough and more effective inspections of railroad freight equipment and to further enhance safe rail operations, FRA has developed a safety concern recommendation report form, and a group of guidance checklist forms that facilitate railroad, rail car owner, and rail equipment manufacturer compliance with agency Railroad Safety Appliance Standards regulations. In lieu of completing an official inspection report (Form FRA F 6180.96), which takes subject railroad equipment out of service and disrupts rail operations, Form FRA F 6180.4a enables Federal and State safety inspectors to report to agency headquarters systemic or other safety concerns. FRA headquarters safety specialists can then contact railroads, car owners, and equipment manufacturers to address the reported issue(s) and institute necessary corrective action(s) in a timely fashion without unnecessarily having to take affected rail equipment out of service, unless deemed defective. Forms FRA F 6180.4(b)-(m) are used in conjunction with the Special Inspection of Safety Appliance Equipment form (Form FRA F 6180.4) to assist Federal Motive, Power, and Equipment (MP&E) field inspectors in ensuring that critical sections of 49 CFR part 231 (Railroad Safety Appliance Standards), pertaining to various types of freight equipment, are complied with through use of a check-off list. By simplifying their demanding work, check-off lists for 12 essential sections of part 231 ensure that FRA MP&E field personnel completely and thoroughly inspect each type of freight car for compliance with its corresponding section in part 231. The Guidance Checklist forms may later be used by state field inspectors as well. FRA believes that this collection of information will result in improved construction of newly designed freight cars and improved field inspections of all freight cars currently in use. This, in turn, will serve to reduce the number of accidents/incidents and corresponding injuries and fatalities that occur every year due to unsafe or defective equipment that was not promptly repaired/replaced.

Form Number(s): FRA F 6180.4(a)-(m).

Affected Public: Businesses.

Reporting Burden:

Form No. | Respondent universe | Total annual responses (forms) | Average time per response (minutes) | Total annual burden hours (hours) | Total annual burden cost
FRA F 6180.4a—MP&E Safety Concern and Recommendation Report | 100 Fed'l & State Inspectors | 50 | 60 | 50 | $2,450
FRA F 6180.4b—Check List Sec. 231.1 | 100 Fed'l & State Inspectors | 20 | 60 | 20 | 980
FRA F 6180.4—Check List Sec. 231.2 | 100 Fed'l & State Inspectors | 20 | 60 | 20 | 980
FRA F 6180.4d—Check List Sec. 231.3 | 100 Fed'l & State Inspectors | 10 | 60 | 10 | 490
FRA F 6180.4e—Check List Sec. 231.4 | 100 Fed'l & State Inspectors | 5 | 60 | 5 | 245
FRA F 6180.4f—Check List Sec. 231.5 | 100 Fed'l & State Inspectors | 5 | 60 | 5 | 245
FRA F 6180.4g—Check List Sec. 231.6 | 100 Fed'l & State Inspectors | 30 | 60 | 30 | 1,470
FRA F 6180.4h—Check List Sec. 231.7 | 100 Fed'l & State Inspectors | 5 | 60 | 5 | 245
FRA F 6180.4i—Check List Sec. 231.8 | 100 Fed'l & State Inspectors | 5 | 60 | 5 | 245
FRA F 6180.4j—Check List Sec. 231.9 | 100 Fed'l & State Inspectors | 5 | 60 | 5 | 245
FRA F 6180.4k—Check List Sec. 231.21 | 100 Fed'l & State Inspectors | 50 | 60 | 50 | 2,450
FRA F 6180.4l—Check List Sec. 231.27 | 100 Fed'l & State Inspectors | 25 | 60 | 25 | 1,225
FRA F 6180.4m—Check List Sec. 231.28 | 100 Fed'l & State Inspectors | 10 | 60 | 10 | 490

Respondent Universe: Federal and State Safety Inspectors.

Frequency of Submission: On occasion.

Total Responses: 240 Forms.

Estimated Total Annual Burden: 240 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on November 13, 2007.
D.J. Stadtler,
Director, Office of Budget, Federal Railroad Administration.

[FR Doc. E7-22593 Filed 11-16-07; 8:45 am]

BILLING CODE 4910-06-P